DEPARTMENT OF TRANSPORTATION

Federal Aviation Administration

14 CFR Part 25

[Docket No. FAA-2024-2387; Special Conditions No. 25-870-SC]

Special Conditions: Airbus Models A321 neo ACF and A321 neo XLR; Single-Occupant Oblique Seats With Pretensioner Restraint Systems; Correction

AGENCY: Federal Aviation Administration (FAA), DOT.

ACTION: Final special conditions; correction.

SUMMARY: The FAA published a document in the Federal Register on December 13, 2024, issuing special conditions for oblique (side-facing) passenger seats which include a 3-point restraint system with pretensioner. The document references an incorrect special condition number.

DATES: This correction is effective on December 8, 2025.

FOR FURTHER INFORMATION CONTACT: Michael H. Harrison, Technical Writing Section, AIR-646, Integration and Performance Branch, Policy and Standards Division, Aircraft Certification Service, Federal Aviation Administration, 2200 S 216th Street, Des Moines, WA; telephone (206) 231-3368; email Michael.Harrison@faa.gov.

SUPPLEMENTARY INFORMATION:

Background

On December 9, 2024, the FAA issued final special conditions for the Airbus Models A321 neo ACF and A321 neo XLR with single-occupant oblique seats with pretensioner restraint systems, which published in the Federal Register on December, 13 2024 (89 FR 100727). The original special conditions used an incorrect special condition number. The correct number should be Special Conditions No. 25-870-SC.

Correction

In the Federal Register of December 13, 2024 (89 FR 100727), make the following correction:

On page 100727, in the first column, in the preamble section, correct “[Docket No. FAA-2024-2387; Special Conditions No. 25-871-SC]” to read “[Docket No. FAA-2024-2387; Special Conditions No. 25-870-SC]”.

Issued in Kansas City, Missouri on December 3, 2025.
Patrick R. Mullen,
Manager, Technical Policy Branch, Policy and Standards Division, Aircraft Certification Service.

[FR Doc. 2025-22163 Filed 12-5-25; 8:45 am]

BILLING CODE 4910-13-P